COMMITTEE FOR THE IMPLEMENTATION OF TEXTILE AGREEMENTS

Determination Under the African Growth and Opportunity Act

AGENCY: Committee for the Implementation of Textile Agreements.

ACTION: Directive to the Commissioner of U.S. Customs and Border Protection.

SUMMARY: The Committee for the Implementation of Textile Agreements (CITA) has determined that certain textile and apparel goods from Burkina Faso shall be treated as “folklore articles” and “ethnic printed fabrics” and qualify for preferential treatment under the African Growth and Opportunity Act. Imports of eligible products from Burkina Faso with an appropriate visa will qualify for duty-free treatment.

DATES: Effective Date: July 14, 2010.

FOR FURTHER INFORMATION CONTACT: Don Niewiaroski, Jr., International Trade Specialist, Office of Textiles and Apparel, U.S. Department of Commerce, (202) 482-2496.

SUPPLEMENTARY INFORMATION:

Authority: Sections 112(a) and 112(b)(6) of the African Growth and Opportunity Act (Title I of the Trade and Development Act of 2000, Pub. L. No. 106-200) (“AGOA”) as amended by Section 7(c) of the AGOA Acceleration Act of 2004 (Pub. L. 108-274) (“AGOA Acceleration Act”) (19 U.S.C. §§ 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including handloomed, handmade, or folklore articles of a beneficiary country that are certified as such by the competent authority in the beneficiary country. The AGOA Acceleration Act further expanded AGOA by adding ethnic printed fabrics to the list of textile and apparel products made in the beneficiary sub-Saharan African countries that may be eligible for the preferential treatment described in section 112(a) of the AGOA. In Executive Order 13191 (January 17, 2001) and Presidential Proclamation 7912 (June 29, 2005), the President authorized CITA to consult with beneficiary sub-Saharan African countries and to determine which, if any, particular textile and apparel goods shall be treated as being handloomed, handmade, folklore articles, or ethnic printed fabrics. See 66 FR 7271, 7271-72 (January 22, 2001) and 70 FR 37959, 37961 & 63 (June 30, 2005).

In a letter to the Commissioner of Customs dated January 18, 2001, the United States Trade Representative directed Customs to require that importers provide an appropriate export visa from a beneficiary sub-Saharan African country to obtain preferential treatment under section 112(a) of the AGOA. See 66 FR 7837 (January 25, 2001). The first digit of the visa number corresponds to one of the groupings of textile and apparel products that are eligible for preferential tariff treatment. Grouping “9” is reserved for handmade, handloomed, folklore articles, or ethnic printed fabrics.

CITA consulted with Burkina Faso authorities on June 8, 2010 and has determined that folklore articles described in Annex A and ethnic printed fabrics described in Annex B, if produced in and exported from Burkina Faso, are eligible for preferential tariff treatment under section 112(a) of the AGOA, as amended. After further consultations with Burkina Faso authorities, CITA may determine that additional textile and apparel goods shall be treated as handloomed, handmade, folklore articles or ethnic printed fabrics. In the letter published below, CITA directs the Commissioner of U.S. Customs and Border Protection to allow duty-free entry of such products under U.S. Harmonized Tariff Schedule subheading 9819.11.27 if accompanied by an appropriate AGOA visa in grouping “9”.

Kim Glas,
Chairman, Committee for the Implementation of Textile Agreements.

Committee for the Implementation of Textile Agreements

July 7, 2010.

Commissioner, U.S. Customs and Border Protection, Department of Homeland Security, Washington, DC 20229

Dear Commissioner:

The Committee for the Implementation of Textiles Agreements (“CITA”), pursuant to Sections 112(a) and (b)(6) of the African Growth and Opportunity Act (Title I of the Trade and Development Act of 2000, Pub. L. No. 106-200) (“AGOA”), as amended by Section 7(c) of the AGOA Acceleration Act of 2004, (Pub. L. 108-274) (“AGOA Acceleration Act”) (19 U.S.C. §§ 3721(a) and (b)(6)), Executive Order No. 13191 of January 17, 2001, and Presidential Proclamation 7912 of June 29, 2005, has determined, effective on July 14, 2010, that the following articles shall be treated as handloomed, handmade, folklore articles, or ethnic printed fabrics under the AGOA: (a) folklore articles described in Annex A to this letter and (b) ethnic printed fabrics described in Annex B, if made in Burkina Faso. Such articles are eligible for duty-free treatment only if entered under subheading 9819.11.27 and accompanied by a properly completed visa for product grouping “9”, in accordance with the provisions of the Visa Arrangement between the Government of Burkina Faso and the Government of the United States Concerning Textile and Apparel Articles Claiming Preferential Tariff Treatment under Section 112 of the Trade and Development Act of 2000. After further consultations with Burkina Faso authorities, CITA may determine that additional textile and apparel goods shall be treated as for handmade, handloomed, folklore articles, or ethnic printed fabrics.

Sincerely,

Kim Glas,

Chairman, Committee for the Implementation of Textile Agreements.

ANNEX A: Burkina Faso Folklore Products

CITA has determined that the following textile and apparel goods shall be treated as folklore articles for purposes of the AGOA if such goods are made in Burkina Faso. Articles must be ornamented in characteristic Burkina Faso or regional folk style. An article may not include modern features such as zippers, elastic, elasticized fabrics, snaps, or hook-and-pile fasteners (such as velcro© or similar holding fabric). An article may not incorporate patterns that are not traditional or historical to Burkina Faso, such as airplanes, buses, cowboys, or cartoon characters and may not incorporate designs referencing holidays or festivals not common to traditional Burkina Faso culture, such as Halloween and Thanksgiving.

Eligible folklore articles:

(a) Bala: Made of cotton fabric strips woven and assembled by hand; embroidered by machine. The colors vary but embroidery is usually white. It is a loose fitting garment for men, consisting of a tunic, which is three-quarters length, embroidered with sleeves, the neckline is a slit down the center, surrounded by embroidery; and a cap, which is cylindrical and fitted.

(b) Djiwa: Made of cotton fabric strips woven by hand with embroidery cotton floss. Patterns and colors of the fabrics vary as well as the embroidery. This men's garment is loose-fitting and consists of four pieces: 1) an inner tunic gown, three-quarter length, usually with intricate embroidery around the neckline, chest, pockets and end of sleeves; 2) trousers, loose fitting and secured at the waist by a drawstring, embroidery at the end of the trousers; 3) an outer gown, loose fitting, embroidery along the neckline, chest, waist and on the back; and 4) a matching cap which is cylindrical and fitted.

(c) Dozo Fani: Made of cotton fabric strips woven by hand, dyed with natural dyes (bogolan) and assembled by hand. The patterns consist of animals, dogon ideograms, or diverse geometrical forms. The colors are brown, black, yellow and red exclusively. This is a loose fitting, one-piece garment for men, open on both sides with no sleeves.

(d) Bougouni: Made of cotton fabric strips woven and assembled by hand. This is a loose fitting garment for men and women, open on both sides, with or without straps attaching the sides. It is white, black or indigo and patterned in strips of cloth with a hound's-tooth pattern in the middle.

ANNEX B: Burkina Faso Ethnic Printed Fabrics

Each ethnic print must meet all of the criteria listed below:

(A) Selvedge on both edges.

(B) Width of less than 50 inches.

(C) Classifiable under subheading 5208.52.30 ¹ or 5208.52.40 ² of the Harmonized Tariff Schedule of the United States.

¹ Printed plain weave fabrics of cotton, 85% or more cotton by weight, weighing over 100g/m2 but not more than 200g/m2, of yarn number 42 or lower.

² Printed plain weave fabrics of cotton, 85% or more cotton by weight, weighing over 100g/m2 but not more than 200g/m2, of yarn numbers 43-68.

(D) Contains designs, symbols, and other characteristics of African prints normally produced for and sold in Africa by the piece.

(E) Made from fabric woven in the U.S. using U.S. yarn or woven in one or more eligible sub-Saharan beneficiary countries using U.S or African yarn.

(F) Printed, including waxed, in one or more eligible sub-Saharan beneficiary countries.

[FR Doc. 2010-17179 Filed 7-13-10; 8:45 am]

BILLING CODE 3510-DS-P